DEPARTMENT OF HEALTH AND HUMAN SERVICES

Office of the Secretary

[Document Identifier HHS-OS-18280-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number 0990-0308, which expires on June 30, 2013. Prior to submitting that ICR to OMB, OS seeks comments from the public regarding the burden estimate, below, or any other aspect of the ICR.

DATES: Comments on the ICR must be received on or before February 25, 2013.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-18280-60D for reference.

Information Collection Request Title: The Effect of Reducing Falls on Acute and Long-Term Care Expenses

OMB No.: 0990-0308.

Abstract: The Office of the Assistant Secretary for Planning and Evaluation (ASPE) within the HHS Office of Secretary is conducting a demonstration and evaluation of a multi-factorial fall prevention program to measure its impact on health outcomes for the elderly as well as acute and long-term care use and cost. The study is being conducted among a sample of individuals with private long-term care insurance who are age 75 and over using a multi-tiered random experimental research design to evaluate the effectiveness of the proposed fall prevention intervention program. The project began in Spring 2008 and is expected to be completed in December 2014.

Need and Proposed Use of the Information: The project will provide information to advance Departmental goals of reducing injury and improving the use of preventive services to positively impact Medicare use and spending.

Likely Respondents: Adults age 75 or older.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden Hours
Form name | Type of respondent | Number of respondents | Number of responses per respondent | Average burden hours per response | Total burden hours
Initial Telephone Screen | Active Control Group (ACG)/Experimental Group (EG) | 835 | 1 | 20 minutes | 278
In-person interview | EG | 435 | 1 | 1.25 hours | 544
Jump start phone call | EG | 435 | 1 | 30 minutes | 218
Quarterly phone calls | ACG/EG | 835 | 4 | 10 minutes | 556
Final Telephone Screen | ACG/EG | 167 | 1 | 20 minutes | 56
Final In-person interview | EG | 167 | 1 | 1.25 | 209
Total |  |  |  |  | 1861

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Keith A. Tucker,
Information Collection Clearance Officer.

[FR Doc. 2012-31113 Filed 12-26-12; 8:45 am]

BILLING CODE 4150-39-P